DEPARTMENT OF THE INTERIOR

National Park Service

[NPS-WASO-NAGPRA-NPS0040015; PPWOCRADN0-PCU00RP14.R50000]

Notice of Inventory Completion: University of California, Berkeley, Berkeley, CA

AGENCY: National Park Service, Interior.

ACTION: Notice.

SUMMARY: In accordance with the Native American Graves Protection and Repatriation Act (NAGPRA), the University of California, Berkeley has completed an inventory of human remains and associated funerary objects and has determined that there is a cultural affiliation between the human remains and associated funerary objects and Indian Tribes or Native Hawaiian organizations in this notice.

DATES: Repatriation of the human remains and associated funerary objects in this notice may occur on or after May 30, 2025.

ADDRESSES: Alexandra Lucas, University of California, Berkeley, 200 California Hall, Berkeley, CA 94720, telephone (510) 570-0964, email nagpra-ucb@berkeley.edu.

SUPPLEMENTARY INFORMATION: This notice is published as part of the National Park Service's administrative responsibilities under NAGPRA. The determinations in this notice are the sole responsibility of the University of California, Berkeley, and additional information on the determinations in this notice, including the results of consultation, can be found in its inventory or related records. The National Park Service is not responsible for the determinations in this notice.

Abstract of Information Available

Human remains representing, at least, 1,382 individuals have been identified. 7,662 associated funerary objects have been identified.

Between 1939 and 1956, ancestral remains representing, at least, 62 individuals (one missing) and 1,057 associated funerary belongings were removed from 12 Fresno County sites by various individuals and subsequently accessioned into the Lowie Museum of Anthropology (Phoebe A. Hearst Museum). The ancestors and their associated funerary belongings were removed from the following sites in Fresno County: CA-Fre-27, CA-Fre-30, CA-Fre-42, CA-Fre-45, CA-Fre-47, CA-Fre-48, CA-Fre-49, CA-Fre-67, CA-Fre-73, CA-Fre-74, CA-Fre-103, and CA-Fre-125. The 1,057 associated funerary belongings are abraders, acorn anvils, awls, baked clay objects, bangles, beads (one missing), blades, bone tools, botanical remains, bottle fragments, bowls, cartridges (ammunition cases), charmstones, choppers, cores, corks (stoppers), dice, drills, faunal remains (four missing), flakers, flakes, glass shards, gravers, ground stone, hammerstones, knives, mammal bones, manos, metates, mineral and rock samples, mortars, nails, ornaments, paint, pendants, pestles, pins, potsherds, projectile points, rings, saws, scrapers, soil samples (two missing), vessels, weights, worked bone, worked shell, and worked stone.

Between 1899 and 1965, ancestral remains representing, at least, 475 individuals (two missing) and 2,163 associated funerary belongings were removed from 24 sites in Kern County by various individuals and subsequently accessioned into the Lowie Museum of Anthropology (Phoebe A. Hearst Museum). The ancestors and their associated funerary belongings were removed from the following sites in Kern County: CA-Ker-30, CA-Ker-31, CA-Ker-33, CA-Ker-34, CA-Ker-35, CA-Ker-36, CA-Ker-39, CA-Ker-40, CA-Ker-41, CA-Ker-45, CA-Ker-46, CA-Ker-47, CA-Ker-49, CA-Ker-51, CA-Ker-52, CA-Ker-53, CA-Ker-74, and seven unspecified locations (identifiable within museum records under CA-Ker-NL-3, CA-Ker-NL-4, CA-Ker-NL-5, CA-Ker-NL-6, CA-Ker-NL-10, CA-Ker-NL-11, and CA-Ker-NL-14). The 2,163 associated funerary belongings are abraders, arrow straighteners, awls, bags, baked clay and baked clay objects, basket impressions, basketry and baskets (one missing), beads (13 missing), buttons, blades, bone tools and tubes, botanical remains, bowls, brushes, charcoal samples, charmstones, cores, dishes, drills, ear ornaments, faunal remains, flakers, flakes, ground stone, hammerstones, harpoons, knives, labrets, mammal bones, mats, metates, mineral and rock samples, mortars, mullers, nets, ornaments, paint and painting supplies, pendants, pestles, pins, potsherds and pottery, projectile points (one missing), rings, ropes, scrapers, shell samples, soil samples (18 missing), spearheads, stone axes (one missing), stone drills, textile samples, vessels, whistles, wooden objects, worked bone, worked shell, and worked stone.

In June 1939, 43 associated funerary belongings were removed from 15 Kings County sites CA-Kin-1, CA-Kin-2, CA-Kin-4, CA-Kin-6, CA-Kin-8, CA-Kin-10, CA-Kin-11, CA-Kin-12, CA-Kin-13, CA-Kin-15, CA-Kin-16, CA-Kin-17, CA-Kin-18, CA-Kin-19, and CA-Kin-20 by various individuals and subsequently accessioned into the Lowie Museum of Anthropology (Phoebe A. Hearst Museum). The 43 associated funerary belongings are beads, buttons, faunal remains, flakes, knives, manos, mineral and rock samples, mortars, painting supplies, pendants, potsherds, projectile points, rings, shell samples, and soil samples.

In June and July of 1939, ancestral remains representing, at least, four individuals and 20 associated funerary belongings were removed from Madera County sites CA-Mad-3, CA-Mad-4, CA-Mad-11, and one unknown site (known by CA-Mad-NL-1 in museum records) by various individuals and subsequently accessioned into the Lowie Museum of Anthropology (Phoebe A. Hearst Museum). The 20 associated funerary belongings are awls, baked clay objects, flakes, manos, metates, mineral and rock samples, mortars, pestles, potsherds, projectile points, and worked stone.

In April 1928, ancestral remains representing, at least, 11 individuals were removed from two unspecified Mariposa County sites (documented as CA-Mrp-NL-1 and CA-Mrp-NL-2 within museum records), by various individuals and subsequently accessioned into the Lowie Museum of Anthropology (Phoebe A. Hearst Museum).

In 1939 and 1956, ancestral remains representing, at least, seven individuals and 12 associated funerary belongings were removed from Merced County sites CA-Mer-7, CA-Mer-45, CA-Mer-48, CA-Mer-59, and CA-Mer-69, by various individuals and subsequently accessioned into the Lowie Museum of Anthropology (Phoebe A. Hearst Museum). The 12 associated funerary belongings are beads, flakes, hammerstones, manos, metates, mineral and rock samples, mortars, ornaments, pestles, and projectile points.

Between 1899 and 1975, ancestral remains representing, at least, 750 individuals (one missing) and 3,731 associated funerary belongings were removed from 20 San Joaquin County sites by various individuals and subsequently accessioned into the Lowie Museum of Anthropology (Phoebe A. Hearst Museum). The ancestors and their associated funerary belongings were removed from CA-SJo-3, CA-SJo-4, CA-SJo-5, CA-SJo-6, CA-SJo-9, CA-SJo-10, CA-SJo-42, CA-SJo-43, CA-SJo-56, CA-SJo-68, CA-SJo-69, CA-SJo-70, CA-SJo-83, CA-SJo-94, CA-SJo-105, CA-SJo-145, CA-SJo-148 and three unknown sites (documented as CA-SJo-NL-3, CA-SJo-NL-4, CA-SJo-NL-5 in museum records). The 3,731 associated funerary belongings are abraders, acorn anvils, awls, baked clay objects (one missing), bangles, basket impressions, baskets, beads (two missing), bifaces, blades (one missing), bone samples, bone tools, bone tubes, botanical remains, bowls, charmstones (one missing), choppers, cooking stones, cores, dice, dishes, drills, ear ornaments, faunal remains (nine missing), figurines, fishhooks, flakers, flakes (two missing), glass shards, gorge hooks, gorgets/ornaments (one missing), gouges, ground stone (one missing), hammerstones, harpoons, knives, manos, metates, mineral and rock samples (eight missing), mortars, mullers, needles, ornaments (nine missing), paint, palettes, pendants (two missing), pestles (one missing), pins, pipes, projectile points (nine missing), rings, saws, scrapers, shell beads, shell samples, slate pencils, soil samples, spearheads (one missing), spoons, Stockton curves (three missing), stone tools, weights, whistles, worked bone, worked shell, and worked stone (one missing).

Between 1912 and 1961, ancestral remains representing, at least, 24 individuals and 593 associated funerary belongings were removed from seven Stanislaus County sites CA-Sta-10, CA-Sta-26, CA-Sta-27, CA-Sta-28, CA-Sta-29, CA-Sta-44 (also known by CA-Sta-45), and one unknown site (documented as CA-Sta-NL-1 within museum records), by various individuals and accessioned into the Lowie Museum of Anthropology (Phoebe A. Hearst Museum). The 593 associated funerary belongings are awls, baked clay objects, beads, bifaces, blades, bone tools, botanical remains, charmstones, choppers, cooking stones, cores, faunal remains (one missing), flakes, flakes, hammerstones, knives, manos, mineral and rock samples, mortars, pendants, pestles, pins, pipes, projectile points, scrapers, slate pencils, soil samples, stone picks, stone tools, weights, worked bone, and worked stone (one missing).

Between 1904 and 1964, ancestral remains representing, at least, 49 individuals and 43 associated funerary belongings were removed from seven Tulare County sites CA-Tul-18, CA-Tul-151, and five unknown sites (documented as CA-Tul-NL-1, CA-Tul-NL-2, CA-Tul-NL-3, CA-Tul-NL-4, and CA-Tul-NL-5 within museum records), by various individuals and accessioned into the Lowie Museum of Anthropology (Phoebe A. Hearst Museum).

The 43 associated funerary belongings are beads, bowls, manos, metates, mortars, ornaments, pestles, potsherds, soil samples, and spoons.

Collections and collection spaces at the Phoebe A Hearst Museum of Anthropology were treated with substances for preservation and pest control, some potentially hazardous. No records have been found to date at the Museum to indicate whether or not chemicals or natural substances were used prior to 1960.

Cultural Affiliation

Based on the information available and the results of consultation, cultural affiliation is reasonably identified by the geographical location or acquisition history of the human remains and associated funerary objects described in this notice.

Determinations

The University of California, Berkeley has determined that:

• The human remains described in this notice represent the physical remains of 1,382 individuals of Native American ancestry.

• The 7,662 objects described in this notice are reasonably believed to have been placed intentionally with or near individual human remains at the time of death or later as part of the death rite or ceremony.

• There is a connection between the human remains and associated funerary objects described in this notice and the Big Sandy Rancheria of Western Mono Indians of California; Buena Vista Rancheria of Me-Wuk Indians of California; California Valley Miwok Tribe, California; Chicken Ranch Rancheria of Me-Wuk Indians of California; Ione Band of Miwok Indians of California; Jackson Band of Miwuk Indians; Northfork Rancheria of Mono Indians of California; Picayune Rancheria of Chukchansi Indians of California; Santa Rosa Indian Community of the Santa Rosa Rancheria, California; Shingle Springs Band of Miwok Indians, Shingle Springs Rancheria (Verona Tract), California; Table Mountain Rancheria; Tejon Indian Tribe; Tule River Indian Tribe of the Tule River Reservation, California; Tuolumne Band of Me-Wuk Indians of the Tuolumne Rancheria of California; United Auburn Indian Community of the Auburn Rancheria of California; and the Wilton Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after May 30, 2025. If competing requests for repatriation are received, the University of California, Berkeley must determine the most appropriate requestor prior to repatriation. Requests for joint repatriation of the human remains and associated funerary objects are considered a single request and not competing requests. The University of California, Berkeley is responsible for sending a copy of this notice to the Indian Tribes and Native Hawaiian organizations identified in this notice.

Authority: Native American Graves Protection and Repatriation Act, 25 U.S.C. 3003, and the implementing regulations, 43 CFR 10.10.

Dated: April 15, 2025.
Melanie O'Brien,
Manager, National NAGPRA Program.

[FR Doc. 2025-07422 Filed 4-29-25; 8:45 am]

BILLING CODE 4312-52-P